ENVIRONMENTAL PROTECTION AGENCY

[ER-FRL-9027-1]

Environmental Impact Statements; Notice of Availability

Responsible Agency: Office of Federal Activities, General Information (202) 564-7146 or http://www2.epa.gov/nepa.

Weekly receipt of Environmental Impact Statements (EISs)

Filed 05/09/2016 Through 05/13/2016

Pursuant to 40 CFR 1506.9

Notice

Section 309(a) of the Clean Air Act requires that EPA make public its comments on EISs issued by other Federal agencies. EPA's comment letters on EISs are available at: https://cdxnodengn.epa.gov/cdx-enepa-public/action/eis/search.

EIS No. 20160105, Final, BLM, NV, Coeur Rochester Mine Plan of Operations Amendment 10 and Closure Plan, Review Period Ends: 06/20/2016, Contact: Kathleen Rehberg 775-623-1500.

EIS No. 20160106, Draft, DOS, CA, Otay Mesa Conveyance and Disinfection System Project, Presidential Permit Application Review, Comment Period Ends: 07/05/2016, Contact: Jill Reilly 202-647-9798.

EIS No. 20160107, Draft Supplement, EPA, CT, Designation of Dredged Material Disposal Site(s) in Eastern Long Island Sound (ELIS), Comment Period Ends: 07/05/2016, Contact: Jean Brochi 617-918-1536.

EIS No. 20160108, Final Supplement, BLM, ID, Proposed Cottonwood Resource Management Plan Amendment for Domestic Sheep Grazing, Review Period Ends: 06/20/2016, Contact: Scott Pavey 208-769-5059.

EIS No. 20160109, Final, USACE, LA, Southwest Coastal Louisiana, Review Period Ends: 06/20/2016, Contact: William P. Klein, Jr. 504-862-2540.

Amended Notices

EIS No. 20160077, Draft, BLM, UT, Enefit Utility Corridor Project, Comment Period Ends: 06/14/2016, Contact: Stephanie Howard 435-781-4469 Revision to FR Notice Published 04/15/2016; Correction to Comment Period Ends from 06/07/2016 to 06/14/2016.

EIS No. 00000000, Final, NRC, NV, NUREG-2184, Supplement to the U.S. Department of Energy's Environmental Impact Statement for a Geologic Repository for the Disposal of Spent Nuclear Fuel and High-Level Radioactive Waste at Yucca Mountain, Nye County, Nevada—Final Report, Contact: Christine Pineda 301-415-6789. Revision to FR Notice Published 05/13/2016. Prepared in accordance with NWPA § 114 and 10 CFR 51.109, which describe the NRC's NEPA process for its review of the proposed geologic repository at Yucca Mountain, Nevada.

Dated: May 17, 2016.
Karin Leff,
Acting Director, NEPA Compliance Division, Office of Federal Activities.

[FR Doc. 2016-11962 Filed 5-19-16; 8:45 am]

BILLING CODE 6560-50-P